DEPARTMENT OF COMMERCE

International Trade Administration

[C-570-039]

Certain Amorphous Silica Fabric From the People's Republic of China: Countervailing Duty Order

Correction

In notice document 2017-05432 appearing on pages 14316-14317 in the issue of March 17, 2017, make the following correction:

On page 14316, in the third column, in footnote 3, the formula in lines 3 and 4 should read:

((Fired Area, cm2−Initial Area, cm2)/Initial Area, cm2) × 100 = Areal Shrinkage, %.

[FR Doc. C1-2017-05432 Filed 3-24-17; 8:45 am]

BILLING CODE 1301-00-D